DEPARTMENT OF THE INTERIOR

Bureau of Land Management

[LLNMP0000 L91450000.PP0000 16XL5573PF]

Notice of Public Meeting, Pecos District Resource Advisory Council Meeting, New Mexico

AGENCY: Bureau of Land Management, Interior.

ACTION: Notice of public meeting.

SUMMARY: In accordance with the Federal Land Policy and Management Act and the Federal Advisory Committee Act, Bureau of Land Management's (BLM) Pecos District Resource Advisory Council (RAC) will meet as indicated below.

DATES: The RAC will meet on June 30, 2016, at Concho Resources, 2208 West Main Street, Artesia, New Mexico, from 9:00 a.m.-3:00 p.m. The public may send written comments to the RAC at the BLM Pecos District, 2909 West 2nd Street, Roswell, New Mexico 88201.

FOR FURTHER INFORMATION CONTACT: Howard Parman, Pecos District Office, Bureau of Land Management, 2909 West 2nd Street, Roswell, New Mexico 88201, 575-627-0212. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC advises the Secretary of the Interior, through the BLM, on a variety of planning and management issues associated with public land management in the BLM's Pecos District. Planned agenda items include: A presentation of the Draft Carlsbad Resource Management Plan/Environmental Impact Statement; a review of the Lesser Prairie-Chicken ACEC Activity Plan; modifications to the business plan for the Rob Jaggers Campground; a discussion of BLM workload changes due to drop in oil prices; the status of public land along the upper Black River; a presentation of BLM's proposed venting and flaring rule; and a presentation of proposed projects under the Restore New Mexico program.

All RAC meetings are open to the public. There will be a half-hour public comment period at 9:30 a.m. for any interested members of the public who wish to address the RAC. Depending on the number of persons wishing to speak and time available, the time for individual comments may be limited.

Melanie Barnes,
Acting Deputy State Director, Lands and Resources.

[FR Doc. 2016-12158 Filed 5-23-16; 8:45 am]

BILLING CODE 4310-FB-P